ENVIRONMENTAL PROTECTION AGENCY

[EPA-HQ-OPP-2011-0766; FRL-9517-3]

Agency Information Collection Activities; Submission to OMB for Review and Approval; Comment Request; Foreign Purchaser Acknowledgement Statement of Unregistered Pesticides

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Foreign Purchaser Acknowledgement Statement of Unregistered Pesticides; EPA ICR No. 0161.12, OMB Control No. 2070-0027. The ICR, which is abstracted below, describes the nature of the information collection activity and its expected burden and costs.

DATES: Additional comments may be submitted on or before June 18, 2012.

ADDRESSES: Submit your comments, referencing Docket ID No. EPA-HQ-OPP-2011-0766, to (1) EPA online using www.regulations.gov (our preferred method), or by mail to: EPA Docket Center, Environmental Protection Agency, Office of Pesticide Programs Regulatory Public Docket (28221T), 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Scott Drewes, Field and External Affairs Division, (7506P), Environmental Protection Agency, 1200 Pennsylvania Ave. NW., Washington, DC 20460; telephone number: (703) 347-0107; fax number: (703) 305-5884; email address: Drewes.Scott@epa.gov.

SUPPLEMENTARY INFORMATION: EPA has submitted the following ICR to OMB for review and approval according to the procedures prescribed in 5 CFR 1320.12. On November 30, 2011 (76 FR 74051), EPA sought comments on this ICR pursuant to 5 CFR 1320.8(d). EPA received no comments during the comment period. Any additional comments on this ICR should be submitted to EPA and OMB within 30 days of this notice.

EPA has established a public docket for this ICR under Docket ID No. EPA-HQ-OPP-2011-0766, which is available for online viewing at www.regulations.gov, or in person viewing at the OPP Regulatory Public Docket in the EPA Docket Center (EPA/DC), EPA West, Room 3334, 1301 Constitution Ave. NW., Washington, DC. The EPA/DC Public Reading Room is open from 8 a.m. to 4:30 p.m., Monday through Friday, excluding legal holidays. The telephone number for the Reading Room is 202-566-1744.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Foreign Purchaser Acknowledgement Statement of Unregistered Pesticides.

ICR numbers: EPA ICR No. 0161.12, OMB Control No. 2070-0027.

ICR Status: This is a request to renew an existing approved collection. This ICR is scheduled to expire on July 31, 2012. Under OMB regulations, the Agency may continue to conduct or sponsor the collection of information while this submission is pending at OMB.

Abstract: This information collection program is designed to enable the Environmental Protection Agency (EPA) to provide notice to foreign purchasers of unregistered pesticides exported from the United States that the pesticide product cannot be sold in the United States. Section 17(a)(2) of the Federal Insecticide, Fungicide, and Rodenticide Act (FIFRA) requires an exporter of any pesticide not registered under FIFRA section 3 or sold under FIFRA section 6(a)(1) to obtain a signed statement from the foreign purchaser acknowledging that the purchaser is aware that the pesticide is not registered for use in, and cannot be sold in, the United States. A copy of this statement, which is known as the Foreign Purchaser Acknowledgement Statement, or FPAS, must be transmitted to an appropriate official of the government in the importing country. This information is submitted in the form of annual or per-shipment statements to the EPA, which maintains original records and transmits copies, along with an explanatory letter, to appropriate government officials of the countries which are importing the pesticide.

In addition to the export notification for unregistered pesticides, FIFRA requires that all exported pesticides include appropriate labeling. Export labeling requirements meet the definition of third-party notification. In the interests of consolidating various related information collection requests, this ICR includes burden estimates for the FPAS requirement for unregistered pesticides, as well as the labeling requirement for all exported pesticides, both registered and unregistered. These burdens have been consolidated in this information collection since the implementation of the 1993 pesticide export policy governing the export of pesticides, devices, and active ingredients used in producing pesticides.

Responses to the collection of information are mandatory (see 40 CFR 168, subpart D). An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Burden Statement: The annual public reporting and recordkeeping burden for this collection of information is estimated to average from one to eight hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this ICR are individuals or entities that either manufacture and export or that reformulate or repackage and export unregistered pesticides. The North American Industrial Classification System (NAICS) code assigned to the parties responding to this information is 325300.

Estimated Number of Respondents: 50.

Frequency of Response: On occasion.

Estimated Total Annual Hour Burden: 24,470.

Estimated Total Annual Cost: $1,461,658, includes $0 annualized capital or O&M costs.

Changes in the Estimates: There is a decrease of 22 hours in the total estimated burden currently identified in the OMB Inventory of Approved ICR Burdens. This decrease reflects EPA's updating of burden estimates for this collection based upon historical information on the number of foreign purchaser acknowledgement statements submitted annually. Based upon revised estimates, the average number of foreign purchaser acknowledgement statements submitted annually has decreased from 2,304 to 2,283, with a corresponding decrease in the associated burden from 2,442 hours in the previous renewal to 2,420 hours in the current renewal. This change is an adjustment.

John Moses,
Director, Collection Strategies Division.

[FR Doc. 2012-11951 Filed 5-16-12; 8:45 am]

BILLING CODE 6560-50-P